DEPARTMENT OF THE INTERIOR

National Park Service

[NPS-NERO-ACAD-DTS-24916; PX.PD210624B.00.4]

Notice of Availability of the Draft Transportation Plan and Environmental Impact Statement for Acadia National Park, Maine

AGENCY: National Park Service, Interior.

ACTION: Notice of availability.

SUMMARY: The National Park Service (NPS) announces the availability of the Draft Transportation Plan and Environmental Impact Statement (Draft Plan/EIS) for Acadia National Park. The purpose of the Transportation Plan is to determine how best to provide safe and efficient transportation and a variety of high quality experiences to visitors within Acadia National Park while ensuring the protection of park resources and values. The Draft Plan/EIS describes four alternatives for consideration, including a no-action alternative.

DATES: Comments will be accepted for a period of 60 days following publication of the Environmental Protection Agency's (EPA) Notice of Availability of the Draft Plan/EIS in the Federal Register. After the EPA Notice of Availability is published, the NPS will schedule public meetings to be held during the comment period. The comment period and dates, times, and locations of these public meetings will be announced through social media and local media outlets, and on the NPS Planning, Environment, and Public Comment (PEPC) website at http://parkplanning.nps.gov/ACADTransportationPlan, and Acadia National Park's website at https://www.nps.gov/acad/index.htm.

ADDRESSES: The Draft Plan/EIS will be available electronically on the NPS PEPC website at http://parkplanning.nps.gov/ACADTransportationPlan. Comments may be submitted electronically through the PEPC website at http://parkplanning.nps.gov/ACADTransportationPlan. Comments will also be accepted in hardcopy by mail to: Acadia National Park, Attn: Transportation Plan, P.O. Box 177, Bar Harbor, ME 04609.

FOR FURTHER INFORMATION CONTACT: John Kelly, Management Assistant, Acadia National Park, P.O. Box 177, Bar Harbor, ME 04609, (207) 288-8703, John_T_Kelly@nps.gov.

SUPPLEMENTARY INFORMATION: The National Park Service (NPS) is preparing a transportation plan for Acadia National Park to determine ways to provide safe and efficient transportation for visitors while ensuring the protection of park resources and values. Transportation issues at Acadia National Park are diverse and complex. Visitors travel to and within the park by private vehicle, tour bus, bicycle, ferry, Island Explorer bus, and other modes. In 2016, park visitation reached a record 3.3 million visitors, which is an increase of 58 percent from 2006.

High volumes of visitors accessing popular visitor destinations during peak times is causing gridlock, visitor conflicts, crowding, emergency response delays, and resource trampling. Concentrated volumes and mixture of traffic, particularly on the Park Loop Road and Cadillac Mountain Road, create critical visitor safety issues, severe crowding and congestion, impacts on the road systems, and challenges to the park's operational efficiency and sustainability. Further, the interdependent relationship between Acadia National Park and diverse gateway communities increases the complexity of managing visitor use and access, especially given the importance of the park to the local economy. The transportation plan will determine ways to improve safety, reduce congestion and crowding, avoid impacts to park resources, and provide visitors with a high-quality experience through a variety of mechanisms such as visitor management strategies, enhancements to alternative transportation services, restrictions on vehicle size, and expanded access to parking.

The Draft Plan/EIS evaluates four alternatives:

Alternative A: No Action—reflects current transportation management direction and serves as a baseline for comparison with the other alternatives. Current management (as outlined in the park's 1992 General Management Plan) would continue with no major changes from current operations, and changes that did occur would be on an as-needed basis. Management of park visitors would continue to vary seasonally as visitor demand and needs change with many management strategies focusing on the peak season between mid-May and mid-October. Parking would remain available to all users on a first-come, first-served basis and right lane parking on the Park Loop Road would continue to occur. Temporary or permanent closures of roads and parking areas may occur if necessary to address safety and security concerns or to ensure the financial sustainability of the overall transportation system.

Alternative B—would establish a reservation system for parking at five of the primary attractions and trailheads along Park Loop Road during peak times and seasons, and eliminate right lane parking to improve traffic flows. Gates and queuing lanes would be constructed where needed to validate reservations and to control access on some first-come, first-served lots.

Alternative C: Proposed action and preferred alternative—would address transportation and congestion issues by establishing a reservation system for the Ocean Drive corridor, Cadillac Mountain Road, and the Jordan Pond North Lot during peak use season (approximately mid-May to mid-October). During initial implementation of this alternative, all other parking lots in the park would continue to be managed on a first-come, first-served basis; but the alternative includes an adaptive management strategy that directs park managers to monitor traffic and resource conditions elsewhere in the park. If monitoring indicates traffic or resource conditions worsening beyond established thresholds, access to Island Explorer routes entering the park, vehicle access to other parking lots, or vehicle access to the entire Park Loop Road may be added to the reservation systems. Expanded opportunities for parking and associated visitor access to the park (without private vehicles) would be provided via expanded public transit service and improvements at Hulls Cove and the Acadia Gateway Center.

Alternative D—would establish a systemwide approach to manage volume of vehicles on Park Loop Road during the peak use season. Gates and additional entrance stations would be installed at all access points to Park Loop Road and a timed-entry reservation system would be established for vehicle access to Park Loop Road during the peak use season. Once a visitor passes through an entrance station or gate during their reserved entry window, all parking lots on Park Loop Road would be available on a first-come, first-served basis.

Under all of the action alternatives (alternatives B, C, and D), vehicle size limits would be phased in for all commercial and noncommercial vehicles on the Park Loop Road to improve safety and maintain the historic character of the road. Also common to these alternatives, the number of oversize commercial vehicles (vehicles that do not fit within a standard parking space such as a bus) allowed at key locations at one time would be managed to ensure desired conditions are maintained and visitor capacities at the parks primary attractions are not exceeded.

The NPS will accept comments on the Draft Plan/EIS for a period of 60 days following publication of the Environmental Protection Agency's (EPA) Notice of Availability of the Draft Plan/EIS in the Federal Register. After the EPA Notice of Availability is published, the NPS will schedule public meetings to be held during the comment period. The comment period and dates, times, and locations of these public meetings will be announced through social media and local media outlets; and on the NPS Planning, Environment, and Public Comment website at http://parkplanning.nps.gov/ACADTransportationPlan, and Acadia National Park's website at https://www.nps.gov/acad/index.htm.

If you wish to comment, you may submit your comments by any one of several methods. The preferred method of commenting is to enter comments electronically through the PEPC website at http://parkplanning.nps.gov/ACADTransportationPlan. Comments will also be accepted in hardcopy by mail to: Acadia National Park, Attn: Transportation Plan, P.O. Box 177, Bar Harbor, ME 04609, or you may hand-deliver hardcopy comments to the park at 20 McFarland Hill Drive, Bar Harbor, ME. Comments will not be accepted in any other format beyond those specified above.

Before including your address, phone number, email address, or other personal identifying information in any comment, you should be aware that your entire comment—including your personal identifying information—may be made publicly available at any time. While you can ask us in your comment to withhold your personal identifying information from public review, we cannot guarantee that we will be able to do so.

Dated: March 13, 2018.
Deborah L. Conway,
Acting Regional Director, Northeast Region, National Park Service.

[FR Doc. 2018-08998 Filed 4-27-18; 8:45 am]

BILLING CODE 4312-52-P